DEPARTMENT OF DEFENSE

Defense Acquisition Regulations System

48 CFR Parts 202, 209, 212, 213, 216, 217, 242, 245, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes and guidance to contracting officers.

DATES: Effective Date: April 20, 2012.

FOR FURTHER INFORMATION CONTACT: Ms. Mary Overstreet, Defense Acquisition Regulations System, OUSD(AT&L)DPAP(DARS), Room 3B855, 3060 Defense Pentagon, Washington, DC 20301-3060. Telephone 571-372-6093; facsimile 571-372-6094.

SUPPLEMENTARY INFORMATION: This final rule amends the DFARS as follows:

1. Updates the definitions of “Contracting activity” at 202.101 and “Debarring and suspending official” at 209.403.

2. Adds to 212.301(f)(iv) the provision 252.203-7005, which is required in all solicitation.

3. Reinstates a notification requirement at 216.504(c)(1)(ii)(D) that was inadvertently deleted in publication of DFARS Case 2012-D020.

4. Directs contracting officers to additional procedures and guidance by adding a reference to the DFARS PGI at 242.302(a)(S-75).

5. Makes minor editorial corrections to 213.301, 216.506(a), 217.7001, 217.7002(b), 217.7003(b), 242.202, 245.201-71, 252.203-7003, 252.212-7001, and 252.223-7006.

6. Updates prescription references for 252.227-7037, 252.229-7013, 252.245-7000, 252.245-7001, 252.245-7002, 252.245-7003, and 252.245-7004.

List of Subjects in 48 CFR Parts 202, 209, 212, 213, 216, 217, 242, 245, and 252

Government procurement.

Mary Overstreet,
Editor, Defense Acquisition Regulations System.

Therefore, 48 CFR parts 202, 209, 212, 213, 216, 217, 242, 245, and 252 are amended as follows:

1. The authority citation for 48 CFR parts 202, 213, 217, and 245 is revised to read as follows:

Authority: 41 U.S.C. 1303 and 48 CFR chapter 1.

PART 202—DEFINITIONS OF WORDS AND TERMS

202.101 [Amended]

2. Section 202.101 “Contracting activity” definition is amended—

a. In the Army list by adding “Deputy Assistant Secretary of the Army (Procurement)” in alphabetical order;

b. In the Army list by removing “Joint Contracting Command—Iraq/Afghanistan”;

c. In the Army list by adding “USCENTCOM Joint Theater Support Contracting Command (C-JTSCC)” in alphabetical order; and

d. In the Air Force list by adding “Air Force Global Strike Command” after “office of the Deputy Assistant Secretary (Contracting)”.

PART 209—CONTRACTOR QUALIFICATIONS

3. The authority citation for 48 CFR 209 continues to read as follows:

Authority: 41 U.S.C. 1303 and 48 CFR chapter 1.

209.403 [Amended]

4. Section 209.403(1) is amended by removing “Army—Commander, U.S. Army Legal Services Agency” and adding in its place “Director, Soldier & Family Legal Services”.

PART 212—ACQUISITION OF COMMERCIAL ITEMS

5. The authority citation for 48 CFR 212 continues to read as follows:

Authority: 41 U.S.C. 1303 and 48 CFR chapter 1.

6. Section 212.301 is amended by—

a. Redesignating paragraphs (f)(iv)(A) through (M) as (f)(iv)(B) through (N); and

b. Adding a new paragraph (f)(iv)(A) to read as follows:

212.301 Solicitation provisions and contract clauses for the acquisition of commercial items.

(f) * * *

(iv) * * *

(A) Use the provision at 252.203-7005, Representation Relating to Compensation of Former DoD Officials, as prescribed in 203.171-4(b).

* * * * *

PART 213—SIMPLIFIED ACQUISITION PROCEDURES

7. Section 213.301(4) is revised to read as follows:

213.301 Governmentwide commercial purchase card.

* * * * *

(4) Guidance on DoD purchase, travel, and fuel card programs is available in the “Department of Defense Government Charge Card Guidebook for Establishing and Managing Purchase, Travel, and Fuel Card Programs” at http://www.acq.osd.mil/dpap/pdi/pc/policy/_documents.html. Additional guidance on the fuel card programs is available at http://www.energy.dla.mil.

PART 216—TYPES OF CONTRACTS

8. The authority citation for 48 CFR 216 continues to read as follows:

Authority: 41 U.S.C. 1303 and 48 CFR chapter 1.

9. Section 216.504 is revised to read as follows:

216.504 Indefinite-quantity contracts.

(c)(1)(ii)(D) Limitation on single-award contracts. (i) The authority to make the determination authorized in FAR 16.504(c)(1)(ii)(D)(1) shall not be delegated below the level of the senior procurement executive.

(ii) A copy of each determination made in accordance with FAR 16.504(c)(1)(ii)(D) shall be submitted to the Director, Defense Procurement and Acquisition Policy, ATTN: OUSD(AT&L)DPAP/CPIC, 3060 Defense Pentagon, Washington, DC 20301-3060.

216.506 [Amended]

10. Section 216.506(a) is amended by removing “52.216-18” and adding in its place “FAR 52.216-18”.

PART 217—SPECIAL CONTRACTING METHODS

217.7001 [Amended]

11. Section 217.7001(b) is amended by removing “Chapter 6.2” and adding in its place “Chapter 9.5”.

217.7002 [Amended]

12. Section 217.7002(b) is amended by removing “Chapter 6.2” and adding in its place “Chapter 9.5”.

217.7003 [Amended]

13. Section 217.7003(a) is amended by removing “Chapter 6.2” and adding in its place “Chapter 9.5”.

PART 242—CONTRACT ADMINISTRATION AND AUDIT SERVICES

14. The authority citation for 48 CFR 242 continues to read as follows:

Authority: 41 U.S.C. 1303 and 48 CFR chapter 1.

242.20 [Amended]

15. Section 242.202(e)(1)(A) is amended by removing “http://home.dcma.mil/casbook/casbook.htm” and adding in its place “https://pubapp.dcma.mil/CASD/main.jsp”.

16. Section 242.302 is amended by adding paragraph S-75 to read as follows:

242.302 Contract administration functions.

* * * * *

(S-75) See PGI 242.302(a)(S-75) for guidelines for monitoring contractor costs.

* * * * *

PART 245—GOVERNMENT PROPERTY

17. Section 245.201-71 is revised to read as follows:

245.201-71 Government-furnished property attachments to solicitations and awards.

See PGI 245.201-71 for procedures for preparing Government-furnished property attachments to solicitations and awards.

PART 252—SOLICITATION PROVISIONS AND CONTRACT CLAUSES

18. The authority citation for 48 CFR 252 continues to read as follows:

Authority: 41 U.S.C. 1303 and 48 CFR chapter 1.

252.203-7003 [Amended]

19. Section 252.203-7003 is amended by—

a. Removing from the clause heading “(DEC 2011)” and adding in its place “(APR 2012)”; and

b. Removing from the clause text “For FedEx or UPS packages, use this zip code: 22311,”.

252.212-7001 [Amended]

20. Section 252.212-7001 is amended by—

a. Removing from the clause heading “(MAR 2012)” and adding in its place “(APR 2012)”; and

b. In paragraph (b)(2), removing “(SEP 2010)” and adding in its place “(APR 2012)”.

252.223-7006 [Amended]

21. Section 252.223-7006 is amended by—

a. Removing from the clause heading “(APR 1993)” and adding in its place “(APR 2012)”; and

b. Adding the parenthetical phrase “(End of clause)” at the end of the basic clause, after paragraph (b) and before “Alternate I”.

252.227-7037 [Amended]

22. Section 252.227-7037 is amended by—

a. Removing from the introductory paragraph “227.7102-3(c)” and adding in its place “227-7102-3”; and

b. Removing from the clause heading “(SEP 2011)” and adding in its place “(APR 2012)”.

252.229-7013 [Amended]

23. Section 252.229-7013 is amended by—

a. Removing from the introductory text “clause” and adding in its place “provision”; and

b. Removing from the clause heading “(MAR 2012)” and adding in its place “(APR 2012)”.

252.245-7000 [Amended]

24. Section 252.245-7000 is amended by—

a. Removing from the introductory text “245.107(a)” and adding in its place “245.107(1)”; and

b. Removing from the clause heading “(DEC 1991)” and adding in its place “(APR 2012)”.

252.245-7001 [Amended]

25. Section 252.245-7001 is amended by—

a. Removing from the introductory text “245.107(b)” and adding in its place “245.107(2)”; and

b. Removing from the clause heading “(FEB 2011)” and adding in its place “(APR 2012)”.

252.245-7002 [Amended]

26. Section 252.245-7002 is amended by—

a. Removing from the introductory text “245.107(c)” and adding in its place “245.107(3)”; and

b. Removing from the clause heading “(FEB 2011)” and adding in its place “(APR 2012)”.

252.245-7003 [Amended]

27. Section 252.245-7003 is amended by—

a. Removing from the introductory text “245.107” and adding in its place “245.107(4)”; and

b. Removing from the clause heading “(FEB 2012)” and adding in its place “(APR 2012)”.

252.245-7004 [Amended]

28. Section 252.245-7004 is amended by—

a. Removing from the introductory text “245.107(e)” and adding in its place “245.107(5)”; and

b. Removing from the clause heading “(AUG 2011)” and adding in its place “(APR 2012)”.

[FR Doc. 2012-9582 Filed 4-19-12; 8:45 am]

BILLING CODE 5001-06-P